DEPARTMENT OF HEALTH AND HUMAN SERVICES

Agency for Toxic Substances and Disease Registry

[30-Day-12-12BL]

Agency Forms Undergoing Paperwork Reduction Act Review

The Agency for Toxic Substances and Disease Registry (ATSDR) publishes a list of information collection requests under review by the Office of Management and Budget (OMB) in compliance with the Paperwork Reduction Act (44 U.S.C. Chapter 35). To request a copy of these requests, call the Centers for Disease Control and Prevention (CDC) Reports Clearance Officer at (404) 639-7570 or send an email to omb@cdc.gov. Send written comments to CDC Desk Officer, Office of Management and Budget, Washington, DC 20503 or by fax to (202) 395-5806. Written comments should be received within 30 days of this notice.

Proposed Project

Biomonitoring of Great Lakes Populations Program—New—Agency for Toxic Substances and Disease Registry (ATSDR), Centers for Disease Control and Prevention (CDC).

Background and Brief Description

The Great Lakes Basin has suffered decades of pollution and ecosystem damage. In 1987, the Great Lakes Water Quality Agreement listed 40 Areas of Concern (AOCs) representing the most polluted areas in the Great Lakes Basin. Many chemicals persist in Great Lakes sediments, as well as in wildlife and humans. These chemicals can build up in the aquatic food chain. Eating contaminated fish is a known route of human exposure.

In 2009, the Great Lakes Restoration Initiative (GLRI) was enacted in Public Law 111-88. The GLRI makes Great Lakes restoration a national priority for 16 federal agencies. The GLRI is led by the U.S. Environmental Protection Agency (U.S. EPA). Under a 2010 interagency agreement with the U.S. EPA, the Agency for Toxic Substances and Disease Registry (ATSDR) announced a funding opportunity called the “Biomonitoring of Great Lakes Populations Program” (CDC-RFA-TS10-1001).

This applied public health program aims to measure Great Lakes chemicals in human blood and urine. These measures will be a baseline for the GLRI and future restoration activities. The measures will be compared to available national estimates. This program also aims to take these measures from people who may be at higher risk of harm from chemical exposures.

Three states were funded for this program: Michigan, Minnesota, and New York. The health departments in these states will look at seven AOCs and four types of sensitive adults: Michigan—urban anglers in the Detroit River and the Saginaw River and Bay AOCs; Minnesota—American Indians near the St. Louis River AOC; and New York—licensed anglers and immigrants from Burma and their family members living in four Lake Ontario and Lake Erie AOCs. These include the Rochester Embayment AOC, the Eighteenmile Creek AOC, and the AOCs along the Niagara and Buffalo Rivers.

Each state will use its own way to ask people to take part in the study. In Michigan, people fishing along the shores of the Detroit River and Saginaw River and Bay will be asked a few questions to see if they are willing to take part in the study. In Minnesota, American Indians will be randomly chosen from a list of people who get local tribal health clinic and social services. They will be contacted by trained staff to take part in the study. In New York, names from the state licensed angler database will be chosen at random. These people will be contacted by mail and telephone to take part in the study. Another group, immigrants who moved from Burma to Buffalo, NY, will work with trained study staff to get their people to take part in the study.

All respondents who consent will give blood and urine specimens. Their blood and urine will be tested for polychlorinated biphenyls (PCBs), mercury, lead, and pesticides. Pesticides will include mirex, hexachlorobenzene, dichlorodiphenyltrichloroethane (DDT) and dichlorodiphenyldichloroethylene (DDE). Each state will test blood and urine for other chemicals of local concern. Respondents will also be interviewed. They will be asked about demographic and lifestyle factors, hobbies, and types of jobs, which can contribute to chemical exposure. Some diet questions will be asked, too, with a focus on eating Great Lakes fish. There is no cost to respondents other than their time spent in the study. The estimated annualized burden hours are 713 hours. The ATSDR is requesting approval to conduct this information collection for two years.

The ATSDR is authorized to conduct this program under the Comprehensive Environmental Response, Compensation, and Liability Act of 1980, as amended by the Superfund Amendments and Reauthorization Act of 1986.

Estimated Annualized Burden Hours
Type of respondent | Form name | Number of respondents | Number responses per respondent | Average burden per response (in hours)
Michigan Shoreline Anglers | Screening Questionnaire | 350 | 1 | 5/60
| Telephone Questions for Scheduling Appointments | 250 | 1 | 7/60
| Informed Consent | 200 | 1 | 1/60
| Biomonitoring Questionnaire | 200 | 1 | 54/60
American Indians from Minnesota | Recruitment Calling Script | 312 | 1 | 5/60
| Refusal Questions Form | 62 | 1 | 2/60
| Individual Consent Form | 250 | 1 | 3/60
| Contact Information Form | 250 | 1 | 2/60
| Study Participant Questionnaire | 250 | 1 | 30/60
| Clinic Visit Form | 250 | 1 | 1/60
| Participation Record | 250 | 1 | 3/60
New York State Licensed Anglers | Mail-in Eligibility Screening Survey | 300 | 1 | 5/60
| Online Eligibility Screening Survey | 450 | 1 | 5/60
| Telephone Script for Non-responders to Screening | 500 | 1 | 5/60
| Telephone Script for Eligible Responders to Screening | 150 | 1 | 5/60
| Informed Consent | 200 | 1 | 1/60
| Interview Questionnaire | 200 | 1 | 30/60
Immigrants from Burma and Descendants | Eligibility Screening Survey | 92 | 1 | 5/60
| Informed Consent | 50 | 1 | 1/60
| Interview Questionnaire | 50 | 1 | 1
| Network Size Questions for Respondent Driven Sampling | 50 | 1 | 5/60

Kimberly S. Lane,
Reports Clearance Officer, Centers for Disease Control and Prevention.

[FR Doc. 2012-4947 Filed 2-29-12; 8:45 am]

BILLING CODE 4163-18-P